EXPORT-IMPORT BANK

[Public Notice: 2015-3005]

Agency Information Collection Activities: Comment Request: Form Title: EIB 92-41 Application for Financial Institution Short-Term, Single-Buyer Insurance

AGENCY: Export-Import Bank of the United States

ACTION: Submission for OMB review and comments request.

SUMMARY: The Export-Import Banks of the United States (Ex-Im Bank), as part of its continuing effort to reduce paperwork and respondent burden, invites the general public and other Federal Agencies to comment on the proposed information collection, as required by the Paperwork Reduction Act of 1995.

This collection of information is necessary, pursuant to 12 U.S.C. Sec. 635(a)(1), to determine eligibility of the underlying export transaction for Ex-Im Bank insurance coverage.

The Export-Import Bank has made a change to the report to have the insured financial institution provide specific information (industry code, number of employees and annual sales volume) needed to make a determination as to whether or not the exporter meets the SBA's definition of a small business. The insured financial institution already provides a short description of the goods and/or services being exported and the name and address of the exporter. These additional pieces of information will allow Ex-Im Bank to better track the extent to which its support assists U.S. small businesses.

The other change that Ex-Im Bank has made is to require the insured financial institution to indicate whether the exporter is a minority-owned business, women-owned business and/or veteran-owned business. Although answers to the questions are mandatory, the company may choose any one of the three answers: Yes/No/Decline to Answer. The option of “Decline to Answer” allows a company to consciously decline to answer the specific question should they not wish to answer.

The information collection tool can be reviewed at: http://www.exim.gov/pub/pending/EIB92-41.pdf.

DATES: Comments must be received on or before January 8, 2016 to be assured of consideration.

ADDRESSES: Comments may be submitted electronically on WWW.REGULATIONS.GOV or by mail to Office of Information and Regulatory Affairs, 725 17th Street NW., Washington, DC 20038, Attn: OMB 3048-0019.

SUPPLEMENTARY INFORMATION: Title and Form Number: EIB 92-41 Application for Financial Institution Short-Term, Single-Buyer Insurance.

OMB Number: 3048-0019.

Type of Review: Regular.

Need and Use: The “Application for Financial Institution Short-term Single-Buyer Insurance” form will be used by financial institution applicants to provide Ex-Im Bank with the information necessary to determine if the subject transaction is eligible for Ex-Im Bank insurance coverage.

Affected Public: This form affects entities involved in the export of U.S. goods and services.

Annual Number of Respondents: 215.

Estimated Time per Respondent: 1.6 hours.

Annual Burden Hours: 344.

Frequency of Reporting of Use: Annual.

Government Expenses:

Reviewing time per year: 1,290 hours.

Average Wages per Hour: $42.50.

Average Cost per Year: (time*wages) $54,825.

Benefits and Overhead: 20%.

Total Government Cost: $ 70,176.

Bonita Jones-McNeil,
Program Analyst, Agency Clearance Officer, Office of the Chief Information Officer.

[FR Doc. 2015-31015 Filed 12-8-15; 8:45 am]

BILLING CODE 6690-01-P